DEPARTMENT OF JUSTICE

Notice of Lodging of Proposed Modification to Consent Decree Under the Clean Water Act

On January 27, 2022, the Department of Justice lodged a proposed modification to the consent decree with the United States District Court for the District of New Jersey in United States v. Jersey City Municipal Utilities Authority, Civil Action No. 2:11-cv-04120 (D.N.J.).

The United States filed this lawsuit in 2011 under the Clean Water Act (“Act”). The complaint sought injunctive relief and civil penalties for violations of the Act related to discharges of pollutants from Jersey City Municipal Utilities Authority's (“JCMUA”) combined sewer system (“CSS”) through numerous outfalls into Penhorn Creek, the Hackensack River, Newark Bay, and the Lower Hudson River. The consent decree entered by the Court on September 27, 2011 provides for JCMUA to perform injunctive measures as described in the consent decree, to pay a civil penalty, and to perform a supplemental environmental project. The proposed modification to the consent decree, among other things: (1) Expands injunctive relief requirements to ensure that three projects under the consent decree—i.e., (a) repairs to the CSS to address flooding and sewer backups; (b) the cleaning and replacement as necessary of certain city sewer lines; and (c) improvements to pump stations—are completed in a manner necessary to bring the CSS into compliance with the Clean Water Act; (2) extends the time periods for JCMUA to complete these projects; and (3) creates a schedule for JCMUA to perform voluntary removal of numerous lead drinking water service lines.

The publication of this notice opens a period for public comment on the modification to the consent decree. Comments should be addressed to the Assistant Attorney General, Environment and Natural Resources Division, and should refer to United States v. Jersey City Municipal Utilities Authority, D.J. Ref. No. 90-5-1-1-09499. All comments must be submitted no later than sixty (60) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed modification to the consent decree may be examined and downloaded at this Justice Department website: https://www.justice.gov/enrd/consent-decrees. We will provide a paper copy of the proposed modification upon written request and payment of reproduction costs. Please mail your request and payment to: Consent Decree Library, U.S. DOJ—ENRD, P.O. Box 7611, Washington, DC 20044-7611.

Please enclose a check or money order for $6.00 (25 cents per page reproduction cost) payable to the United States Treasury.

Henry S. Friedman,
Assistant Section Chief, Environmental Enforcement Section, Environment and Natural Resources Division.

[FR Doc. 2022-02075 Filed 2-1-22; 8:45 am]

BILLING CODE 4410-15-P